ENVIRONMENTAL PROTECTION AGENCY

[FRL-6917-8]

Mobile Source Outreach Assistance Competition Fiscal Year 2001: Solicitation Notice

AGENCY: Environmental Protection Agency (EPA).

ACTION: Notice.

SUMMARY: Today's notice announces the availability of funding and solicits proposals from State, local, multi-State, and tribal air pollution control agencies for mobile sources-related public education and outreach projects. The funding will be allocated by EPA's Office of Transportation and Air Quality (OTAQ) through the competitive process described in this notice.

DATES: The deadline for submitting final proposals is Friday, March 2, 2001. To allow for efficient management of the competitive process, OTAQ is requesting agencies to submit an informal intent to apply by January 7, 2001. (Instructions for submitting final proposals and intents to apply are found in section X. below.)

ADDRESSES: This proposal can also be found in two places on the Office of Transportation and Air Quality Web Page: “www.epa.gov/OTAQ/” click on “What's New” or “www.epa.gov/OTAQ/rfp.htm”. Addresses for submitting final proposals can be found in section X. below.

FOR FURTHER INFORMATION CONTACT: Susan Bullard, Director of Outreach, USEPA Office of Transportation and Air Quality (OTAQ), 1200 Pennsylvania Avenue NW, (mail code 6406J), Washington, DC, 20460. Telephone (202) 564-9856; Fax (202) 565-2085. Or email “bullard.susan@epa.gov”

SUPPLEMENTARY INFORMATION:

Contents by Section

I. Overview and Deadlines

II. Eligible Organizations

III. Funding Issues

IV. Program Emphasis

V. Selection Criteria

VI. Evaluation and Selection

VII. Proposals

VIII. Current OTAQ/Section 105 Funded Outreach Projects

IX. Other Items of Interest

X. How to Apply

XI. EPA Regional Grant Coordinators

XII. OTAQ Program Contact

Deadline for informal Intent to Apply—January 7, 2001

Deadline for Final Proposal—Friday midnight, March 2, 2001

This proposal can also be found on the Office of Transportation and Air Quality Web Page:

www.epa.gov/otaq/ Click on “What's New”

or

“www.epa.gov/OTAQ/rfp.htm”

Mobile Source Outreach Assistance Agreements 2001: Request for Proposals

Section I. Overview and Deadlines

A. Overview

Over the past four years, EPA's Office of Transportation and Air Quality (OTAQ) has entered into agreements and established partnerships with a number of organizations to (1) provide national support for community-based mobile source public education efforts supporting implementation of the Clean Air Act and, (2) encourage responsible choices for organizational and individual actions through public education. Current OTAQ/Section 105-Funded Outreach Projects are listed on the OTAQ web site “www.epa.gov/otaq/whatsnew” and emphasize transportation choices to reduce vehicle miles traveled; education of vehicle owners and drivers of the future; alternative fuels; car care and the role of the automotive technician; outreach to ethnic populations; environmental justice; and, related projects such as ozone mapping and small engines. EPA's Office of Transportation and Air Quality has set aside funds from the State and Tribal Assistance Grants (STAG) account to provide support to community-based mobile source-related projects. This Notice solicits proposals for public education and outreach projects which directly support state and local air management organizations in their efforts to improve air quality from mobile sources. Proposals will be accepted from state, local, tribal and multi-state air management agencies which are identified as such under Section 302(b) of the Clean Air Act.

Interested persons can also obtain copies of this solicitation at no charge by accessing the OTAQ Website at “www.epa.gov/otaq/” Click on “What's New” or “www.epa.gov/OTAQ/rfp.htm”.

B. What Are the Deadlines For This Competition?

In order to efficiently manage the selection process, the Office of Transportation and Air Quality requests that an informal “Intent to Apply” be submitted by January 7, 2001 (Please provide project title or subject and email address for project contact). An “Intent to Apply” simply states in the form of e-mail, phone, or fax that your organization intends to submit a proposal to be received by the deadline. Submitting an “Intent to Apply” does not commit an organization to submit a final proposal. Those not submitting an Intent to Apply may still apply by the deadline. The deadline for final proposals (original and six copies) is Friday, March 2, 2001. The Office of Transportation and Air Quality expects to complete the Evaluation/Selection process in mid-April, 2001.

Section II. Eligible Organizations

C. Who Is Eligible to Submit Proposals?

According to funding policies associated with the State and Tribal Assistance Grants regulations (STAG funds), proposals can be accepted only from air pollution control agencies as defined under Section 302(b) of the Clean Air Act (for projects to be undertaken which will have replicability to other communities nationally), as well as multi-state organizations supporting Section 302(b) agencies. OTAQ has no discretion over this requirement.

Interested air management, non-governmental or related organizations which are not air pollution control agencies as defined under Section 302(b) of the Clean Air Act are encouraged to create partnerships with eligible organizations. In that situation, the eligible organization would be required to submit the final proposal and serve as the funding recipient if selected.

Section III. Funding Issues

D. What Is the Amount of Available Funding?

A minimum of $550K.

E. How Will Funds be Allocated?

The competition process will be managed by OTAQ and selected cooperative agreements will be awarded by EPA's Regional offices and funded through either Section 103 (for multi-state organizations as defined by law only) or Section 105 authority (state and local air pollution control agencies.) OTAQ has no discretion over this requirement.

F. How Many Agreements Will be Awarded?

Approximately six agreements will be awarded, none to exceed $100,000. The total dollar amount of the final awards must be within available funding.

G. Are Matching Funds Required?

Possibly. Clean Air Act Section 105 mandates that eligible agencies provide matching funds of at least 40%. Therefore, if an air pollution control agency submits a proposal for which they do not already have sufficient matching funds, they must include a statement in their proposal indicating that the match could be met if their proposal is selected. Organizations unable to meet a required match must be considered ineligible. (This requirement does not apply to multi state organizations.) Organizations which are unclear as to their matching status are recommended to contact their EPA Regional Grant Coordinator (see Section XII below).

H. Can Funding be Used to Acquire Services or Fund Partnerships?

Yes—subgrants and other procurement services are allowed. Because the method used to fund subgrants is not a federal matter, procedures governing your organization's procurement practices must be followed. Please indicate any intent to enter into such agreements in the proposal.

Section IV. Program Emphasis

This program is designed to provide seed money to initiate new projects or advance existing projects that are new in some way (e.g. new audiences, new locations, new approaches) rather than grow ongoing projects.

I. Program Emphasis

—Voluntary Measures

—Commuter Choice initiatives

—Transportation choices

—Environmental Justice

—Car care (testing, repair, maintenance)

—On Board Diagnostics (OBD)

—Alternative fuels

—Involving youth in mobile source issues/environmental education

—Other mobile source issues (including but not limited to: diesel, particulate matter, heavy duty engines; nonroad engines; and ozone mapping/forecasting.)

Section V. Selection Criteria

J. Primary Criteria

—Clearly addresses environmental goals of improved air quality from mobile sources

—Demonstrates national or regional applicability/transferability

—Explanation of how project outcomes will be designed for replication in other communities

—Presents a strong public health message

—Demonstrates effectiveness of delivery mechanism to reach targeted audience

—Exhibits clearly-stated and appropriate levels of funding

—Includes effective evaluation methods

—Reflects potential for sustainability

K. Other Factors to be Considered

—Innovation in public awareness

—Effectiveness of collaborative activities and partnerships with other stakeholders needed to effectively develop or implement the project

—Integration with existing programs

—Willingness to coordinate with other OTAQ-funded outreach activities

L. Presentation Criteria

—Completeness

—Action-oriented

—Clearly-stated goals and objectives

—Reasonable time frames

Section VI. Evaluation and Selection

M. The Evaluation Team is Chosen to Address a Full Range of Mobile Source and EPA Program Expertise

In addition, each EPA Regional office is given the opportunity to review those proposals generated by eligible organizations within that Region. The Evaluation Team will base its evaluation solely on the criteria referenced in this Notice. Completed evaluations will be referred to a Selection Committee representing OTAQ senior managers and Regional representatives who are responsible for further consideration and final selection. To ensure equity and objectivity throughout the process, the OTAQ Program Contact (listed below) and staff who facilitate the process and participate in pre-application assistance, do not serve as members of either the Evaluation Team or the Selection Committee.

Section VII. Proposals

N. What Must be Included in the Proposal?

Proposals should be approximately 5-7 pages in length (please do not include binders or spiral binding) and must include:

(1) A brief statement that the candidate organization is defined as an air pollution control agency under Section 302(b) of the Clean Air Act;

(2) A statement that any required match will be met;

(3) A concise statement of project background/objectives highlighting relationship to improving air quality from mobile sources;

(4) A detailed project summary—description of specific actions to be undertaken, including estimated time line for each task;

(5) Associated work products to be developed;

(6) Explanation of project benefits;

(7) Detailed explanation of how project outcomes will be designed for replication in other communities;

(8) Description of collaborative activities and partnerships with other stakeholders;

(9) A detailed budget estimate (clearly explain how funds will be used, including estimated cost for each task.) (Note: Budget estimates should include funding for participation in the 3-day Annual Mobile Source Outreach and Partnerships Workshop typically held in Washington, DC in late fall/early winter.);

(10) Projected time frame for project from initiation through completion; and

(11) Project contact(s) (must provide name, organization, phone, fax, and e-mail).

O. Will 2-Year Proposals be Considered?

Yes. If a proposal with a 2-year project period is submitted, OTAQ requires that the budget and cost estimate be designed to indicate what will be accomplished in each of the first and second years.

P. May An Eligible Organization Submit More Than One Proposal?

An organization may submit more than one proposal only if the proposals are for different projects.

Q. May An Eligible Organization Resubmit a Proposal Which Was Previously Submitted to the Mobile Source Outreach Assistance Competition, But Was Not Selected?

Yes. The proposals received by OTAQ in previous competitions were generally of very high quality. Clearly, all proposals of merit could not be selected due to limited resources available.

R. May An Eligible Organization Submit a Proposal for this Fiscal Year, Even if it Were Previously Awarded Funding Under This Program?

Yes. Applicants awarded funding in previous competitions may submit new proposals to fund a different project. This program is designed to provide seed money to initiate new projects or advance existing projects that are new in some way (e.g. new audiences, new locations, new approaches).

S. Does This Funding Expire at the End of FY 01?

No. The statute states that State and Tribal Assistance Grants (STAG) for environmental programs remain available until expended (“no-year money”).

T. Ineligible Proposals

Proposals will be determined to be ineligible if: (1) the candidate organization is not currently defined as an air pollution control agency under Section 302(b) of the Clean Air Act; (2) a required match cannot be met; (3) the proposal is incomplete (proposals must address each component outlined in Section VII. N.); or (4) the proposal is postmarked after the deadline.

Section VIII. Current OTAQ/Section 105 Funded Outreach Projects

U. Since this Program is Designed to Fund New Projects (Rather Than Duplicating or Growing Existing Programs), Potential Candidate Organizations are Recommended to Visit the OTAQ Web Site to Identify Projects Already Being Funded

The item, entitled “Current OTAQ/Section 105 Funded Outreach Projects,” can be found at “www.epa.gov/otaq/ Click on “What's New” (scroll to “added September 14”) and offers a brief sketch of projects funded through the Office of Transportation and Air Quality, either with Section 105 funding (indicated by year of funding) or projects that are intended to be national in scope, supported by OTAQ program funding (indicated by an asterisk “*”). (Note: Some web sites listed by funded organizations provide helpful information on a variety of air quality efforts being undertaken by the funded organization.)

Section IX. Other Items of Interest

V. Is There Other Information I Should Have Before Applying?

Yes.

—Submission of an Intent to Apply or a final proposal does not guarantee funding.

—Supplementary information, including letters of recommendation, will not be reviewed by the Evaluators.

—Only those organizations selected will be required to submit a complete “Application for Federal Assistance and Budget Information” (SF 424 and SF 424A) to the appropriate EPA Regional Office.

Section X. How to Apply

W. How Do I Apply?

Informal “Intents to Apply” may take the form of email, fax or phone call to the Program Contact listed below. Include organization, contact, phone, email and project title/subject. PLEASE SUBMIT INFORMAL “INTENTS TO APPLY” by January 7, 2001.

To be considered eligible, Completed Proposals must be postmarked or received on or before midnight, Friday, March 2, 2001 (original + 6—no binders or spiral binding please!)

Please Pay Special Attention to the Distinction in Addresses for Regular Mail and In-Person Delivery.

Via regular mail to: Susan Bullard, Director of Outreach, US EPA Office of Transportation and Air Quality, 1200 Pennsylvania Avenue NW, Mail Code 6406J, Washington, DC 20460.

Express mail which is to be delivered in-person (FedEx, UPS, Airborne, etc) must be received by no later than midnight on Friday, March 2, 2001 at the following address: Susan Bullard, Director of Outreach, US EPA Office of Transportation and Air Quality, 501 Third Street NW Room 5304D, (202) 564-9856, (202) 564-8991 (backup number for expressed proposals only).

[Note: Proposals e-mailed or faxed will serve only as a placeholder, and must be followed by a hard copy original and 6 copies postmarked or received no later than the deadline.]

Deadline for Completed Final Proposals

Received or postmarked no later than midnight on Friday, March 2, 2001

Section XI. EPA Regional Section 105 Grant Coordinators

Region 1 | Paul Bryan | 617-918-1673
Region 2 | Marlon Gonzales | 212-637-3769
Region 3 | Russ Bowen | 215-814-2057
Region 4 | Todd Rinck | 404-562-9062
Region 5 | Robert Miller | 312-353-0396
| Pamela Blakley | 312-886-4447
Region 6 | Rexene Hanes | 214-665-2726
Region 7 | Aaron Zimmerman | 913-551-7333
Region 8 | Scott Lee | 303-312-7094
Region 9 | Jack Colbourn | 415-744-1239
| Valerie Cooper | 415-744-1237
Region 10 | David Debruyn | 206-553-4218

Section XII. OTAQ Program Contact

Susan Bullard, Director of Outreach, EPA Office of Transportation and Air Quality (OTAQ), 1200 Pennsylvania Avenue, NW., (Mail Code 6406J), Washington, DC 20460, (Phone) 202/564-9856; (Fax) 202/565-2085, “bullard.susan@epa.gov”.

Margo Tsirigotis Oge,
Director, Office of Transportation and Air Quality.

[FR Doc. 00-32027 Filed 12-14-00; 8:45 am]

BILLING CODE 6560-50-U